DEPARTMENT OF STATE

[Public Notice: 11335]

30 Day Notice of Proposed Information Collection: Supplemental Questions for Visa Applicants

ACTION: Notice of request for public comment.

SUMMARY: The Department of State is seeking Office of Management and Budget (OMB) approval for the information collection described below. In accordance with the Paperwork Reduction Act of 1995 and implementing OMB guidance, we are requesting comments on this collection from all interested individuals and organizations. The purpose of this notice is to allow 30 days for public comment preceding submission of the collection to OMB.

DATES: The Department will accept comments from the public up to March 8, 2021.

ADDRESSES: Direct comments to the Department of State Desk Officer in the Office of Information and Regulatory Affairs at OMB. You may submit comments by the following methods:

• Email: oira_submission@omb.eop.gov. You must include the DS form number, information collection title, and the OMB control number in the subject line of your message.

• Fax: 202-395-5806. Attention: Desk Officer for Department of State.

FOR FURTHER INFORMATION CONTACT: Megan Herndon, Senior Regulatory Coordinator, Visa Services, Bureau of Consular Affairs at PRA_BurdenComments@state.gov or over telephone at (202) 485-7586.

SUPPLEMENTARY INFORMATION:

• Title of Information Collection: Supplemental Questions for Visa Applicants.

• OMB Control Number: 1405-0226.

• Type of Request: Revision of a Currently Approved Collection.

• Originating Office: CA/VO.

• Form Number: DS-5535.

• Respondents: Certain immigrant and nonimmigrant visa applicants worldwide who have been determined to warrant additional scrutiny in connection with terrorism, national security-related, or other visa ineligibilities.

• Estimated Number of Respondents: 75,000.

• Estimated Number of Responses: 75,000.

• Average Time per Response: 55 minutes.

• Total Estimated Burden Time: 68,750 hours.

• Frequency: Once per respondent's application.

• Obligation to Respond: Required to Obtain or Retain a Benefit.

We are soliciting public comments to permit the Department to:

• Evaluate whether the proposed information collection is necessary for the proper functions of the Department.

• Evaluate the accuracy of our estimate of the time and cost burden of this proposed collection, including the validity of the methodology and assumptions used.

• Enhance the quality, utility, and clarity of the information to be collected.

• Minimize the reporting burden on those who are to respond, including the use of automated collection techniques or other forms of information technology.

Please note that comments submitted in response to this Notice are public records. Before including any detailed personal information, you should be aware that your comments as submitted, including your personal information, will be available for public review.

Abstract of Proposed Collection

The Department requests an extension on the collection of following information, from a subset of visa applicants worldwide, in order to more rigorously evaluate applicants for terrorism, national security-related, or other visa ineligibilities:

• Travel history during the last fifteen years, including source of funding for travel;

• Address history during the last fifteen years;

• Employment history during the last fifteen years;

• All passport numbers and country of issuance held by the applicant;

• Names and dates of birth for all siblings;

• Name and dates of birth for all children; and

• Names and dates of birth for all current and former spouses, or civil or domestic partners.

Regarding travel history, applicants may be requested to provide details of their international or domestic (within their country of nationality) travel, if it appears to the consular officer that the applicant has been in an area while the area was under the operational control of a terrorist organization as defined in section 212(a)(3)(B)(vi) of the Immigration and Nationality Act, 8 U.S.C. 1182(a)(3)(B)(vi). Applicants may be asked to recount or explain the details of their travel, and when possible, provide supporting documentation. While the Department previously required applicants completing the DS-5535 to provide their social media platforms and identifiers, also known as handles, used during the last five years, and phone numbers and email addresses used during the last five years, the form no longer includes those fields, which are now incorporated into the DS-156 Nonimmigrant Visa Application, DS-160 Online Nonimmigrant Visa Application.

This information collection continues implementation of the directive of the President, in the Memorandum for the Secretary of State, the Attorney General, the Secretary of Homeland Security of March 6, 2017, to implement additional protocols and procedures focused on “ensuring the proper collection of all information necessary to rigorously evaluate all grounds of inadmissibility or deportability, or grounds for the denial of other immigration benefits.” Consular posts worldwide regularly engage with U.S. law enforcement and partners in the U.S. intelligence community to identify characteristics of applicant populations warranting increased scrutiny. The additional information collected facilitates consular officer efforts to apply more rigorous evaluation of these applicants for visa ineligibilities. In accordance with existing authorities, visas may not be denied on the basis of race, religion, ethnicity, national origin, political views, gender, or sexual orientation.

Failure to provide requested information will not necessarily result in visa denial, if the consular officer determines the applicant has provided a credible explanation why he or she cannot answer a question or provide requested supporting documentation, such that the consular officer is able to conclude that the applicant has provided adequate information to determine the applicant's eligibility to receive the visa. The information requested on this form will not be used to deny visas based on applicants' race, religion, ethnicity, national origin, political views, gender, or sexual orientation.

Section 3 of the President's January 20, 2021 Proclamation on Ending Discriminatory Bans on Entry to The United States, requires the Department to assemble a report on current screening and vetting procedures, information sharing practices, and recommendations to improve these activities, to include an evaluation of the usefulness of the DS-5535. The Department is aware of these requirements, and is committed to evaluating and improving the utility of the DS-5535 accordingly.

Methodology

Department of State consular officers at visa-adjudicating posts worldwide will ask the additional questions to resolve an applicant's identity or to vet for terrorism, national security-related, or other visa ineligibilities when the consular officer determines that the circumstances of a visa applicant, a review of a visa application, or responses in a visa interview indicate a need for greater scrutiny. The additional questions may be sent electronically to the applicant or be presented orally or in writing at the time of the interview.

Julie M. Stufft,
Acting Deputy Assistant Secretary, Bureau of Consular Affairs, Department of State.

[FR Doc. 2021-02413 Filed 2-4-21; 8:45 am]

BILLING CODE 4710-06-P